DEPARTMENT OF JUSTICE

Notice of Lodging of Second Proposed Amendment to Consent Decree Under the Clean Water Act

Notice is hereby given that on November 8, 2010, a proposed Second Amendment to 2006 Consent Decree, pertaining to United States and State of Indiana v. City of Indianapolis, Civ. No. 1:06-cv-1456, was lodged with the United States District Court for the Southern District of Indiana.

In the original action, the United States sought civil penalties and injunctive relief for alleged violations of Sections 301 and 402 of the Clean Water Act, 33 U.S.C. 1319 and 1342, in connection with the City's operation of its municipal wastewater and sewer system. In December 2006, the Court entered a Consent Decree which requires the City to reduce Combined Sewer Overflows (CSO) by, among other things, performing certain activities and constructing thirty-one (31) Combined Sewer Overflow (CSO) Control Measures in accordance with the City's Long Term Control Plan (LTCP). CSO Control Measure 16, as set forth in the 2006 Consent Decree, required the City to construct a shallow interceptor sewer having a total capacity of 24 million gallons.

On April 23, 2009, the Court approved and entered a First Amendment to the 2006 Consent Decree, which authorized the City to replace the shallow interceptor with a 54-million gallon capacity Deep Rock Tunnel Connector (DRTC), which allowed the City to avoid several environmental and right-of-way impediments to the project. The DRTC, as conceived, would have improved the overall level of control to be achieved by Indianapolis by increasing the system's storage capacity by approximately 30 million gallons, and reducing the system's projected annual CSO discharge volume from 600 million gallons to 480 million gallons. The change also would have allowed the City to capture hundreds of millions of gallons of raw sewage discharges from the City's largest CSO (CSO 008), three-and-one-half years earlier than would have occurred without the amendment.

While the First Amendment authorized the modification of CSO Control Measure 16, the proposed Second Amendment is much more extensive, and would authorize the modification of CSO Control Measures 16, 18, 22, 23, 24, 25, 26, 29, 30, and 31; the elimination of CSO Control Measures 27 and 28, and the addition of CSO Control measure 32. As a result of the proposed changes, the City is now expected to reduce the amount of the total annual discharge to about 414 million gallons, capture raw sewage discharges from another CSO earlier than originally anticipated, allow the City to achieve a flexibility that was missing from its original system design, and reduce the cost of the project by approximately $444 million.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and State of Indiana v. City of Indianapolis, D.J. Ref. 90-5-1-1-07292.

The proposed Second Amendment to 2006 Consent Decree may be examined at the Office of the United States Attorney for the Southern District of Indiana, 10 West Market St., Suite 2100, Indianapolis, IN 46204 (contact Asst. U.S. Attorney Thomas Kieper (317-226-6333)), and at U.S. EPA Region 5, 7th Floor Records Center, 77 West Jackson Blvd., Chicago, Illinois 60604 (contact Assoc. Regional Counsel Gary Prichard (312-886-0570)). During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. 202-514-0097, phone confirmation number 202-514-1547. In requesting a copy from the Consent Decree Library, please enclose a check in the amount of $8.50 (25 cents per page reproduction cost) for both the proposed Second Amendment and attached Table, payable to the U.S. Treasury or, if by e-mail or fax, forward a check in that amount to the Consent Decree Library at the stated address.

Maureen Katz,
Assistant Chief, Environmental Enforcement Section, Environment and Natural Resources Division.

[FR Doc. 2010-28599 Filed 11-12-10; 8:45 am]

BILLING CODE 4410-15-P